DEPARTMENT OF THE INTERIOR

Bureau of Land Management

[AK-0293-02-1310-PB]

National Petroleum Reserve—Alaska Research and Monitoring Advisory Team Public Meeting

AGENCY: Bureau of Land Management (BLM), Northern Field Office, Interior.

ACTION: Notice of the meeting location and time for the National Petroleum Reserve—Alaska Research and Monitoring Advisory Team.

SUMMARY: The National Petroleum Reserve—Alaska Research and Monitoring Advisory Team (NPR-A RMT) will meet May 29, 2002, from 9 a.m. to 4 p.m. to discuss research and monitoring needs in the NPR-A and to recommend priority projects for funding by BLM. The meeting, which is open to the public, will be held at the BLM Northern Field Office, located at 1150 University Avenue in Fairbanks, Alaska. Public comments will be taken from 1 p.m. to 1:30 p.m.

ADDRESSES: Inquiries or comments should be sent to Public Affairs, BLM Northern Field Office, 1150 University Avenue, Fairbanks, AK 99709-3844.

FOR FURTHER INFORMATION CONTACT: Herb Brownell, (907) 474-2333 or 1-800-437-7021, x2333, or e-mail Herb_Brownell@ak.blm.gov.

SUPPLEMENTARY INFORMATION: The RMT's members represent BLM, the Minerals Management Service, U.S. Department of Energy, U.S. Fish and Wildlife Service, U.S. Geological Survey—Biological Resources Division, the North Slope Borough, the oil and gas industry, environmental/resource conservation organizations, natural resource managers and academics, and the public at large. The RMT advises BLM in assessing the effectiveness and appropriateness of mitigative stipulations established in the 1998 Record of Decision for the Northeast NPR-A Integrated Activity Plan/Environmental Impact Statement. More generally, the RMT assesses NPR-A research and monitoring needs, develops and recommends research priorities, and works toward applying improved technology and operating practices to oil exploration and possible development in NPR-A.

The RMT meets in accordance with the Federal Land Policy and Management Act and the Federal Advisory Committee Act of 1972.

Dated: April 4, 2002.
Robert W. Schneider,
Field Manager.

[FR Doc. 02-12016 Filed 5-13-02; 8:45 am]

BILLING CODE 4310-JA-P